DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas: Faulkner (Case No. 01-06-1902P) (FEMA Docket No. P7616) | City of Conway. | Sept. 5, 2002, Sept. 12, 2002, Log Cabin Democrat | The Honorable Tab Townsell Mayor, City of Conway, 1201 Oak Street, Conway, AR 72033 | Nov. 25, 2002 | 050078
Illinois: Lake and Cook (Case No. 02-05-2130P) (FEMA Docket No. P7618) | Village of Deerfield | Sept. 19, 2002, Sept. 23, 2002, Deerfield Review | The Honorable Steven Harris Mayor, Village of Deerfield, Village Hall, 850 Waukegan Road, Deerfield, IL 60015 | Sept. 6, 2002 | 170361
Indiana: Hamilton (Case No. 02-05-2995P) (FEMA Docket No. P7618) | Town of Westfield | Oct. 22, 2002, Oct. 29, 2002, The Noblesville Ledger | Mr. Michael McDonald, Town Council President, Town of Westfield, 130 Penn Street, Westfield, IN 46074 | Sept. 24, 2002 | 180083
Kansas:
Harvey (Case No. 02-07-1008P) (FEMA Docket No. P7618) | City of Newton | Sept. 20, 2002, Sept. 27, 2002 The Newton Kansan | The Hon. Marjorie Roberson, Mayor, City of Newton, 201 E. 6th Street, Newton, KS 67114 | Sept. 10, 2002 | 200133
Riley (Case No. 02-07-667P) (FEMA Docket No. P7616) | City of Riley | Aug. 15, 2002, Aug. 22, 2002, The Riley Countain | The Honorable Gerald Baer Mayor, City of Riley, 902 West Walnut Street, Riley, KS 66531 | Nov. 21, 2002 | 200303
Riley, (Case No. 02-07-666P) (FEMA Docket No. P7616) | Unincorporated Areas | Aug. 15, 2002, Aug 22, 2002, The Manhattan Mercury | Mr. Robert Newsome, Chairman, Riley County, Commissioner, Courthouse Plaza East, 115 North 4th Street, Manhattan, KS 66502 | Nov. 21, 2002 | 200298
Michigan: Wayne (Case No. 01-05-3983P) (FEMA Docket No. P7618) | Charter Township of Brownstown | Sept. 11, 2002, Sept. 18, 2002, The News-Hearld | Mr. W. Curt Boller, Supervisor, Brownstown Twp., 21313 Telegraph Road, Brownstown Township, MI 481883 | Dec. 11, 2002 | 260218
Missouri:
Greene (Case No. 00-07-676P) (FEMA Docket No. P7618) | Unincorporated Areas | Oct. 9, 2002, Oct. 16, 2002, Springfield News-Leader | The Honorable David Coonrod, Presiding Commissioner, County of Greene, 940 Boonville Avenue, Springfield, MO 65802 | Jan. 15, 2003 | 290782
Jasper and Newton (Case No. 01-07-831P) (FEMA Docket No. P7618) | City of Joplin | Oct. 4, 2002, Oct. 11, 2002, The Joplin Globe | The Hon. Richard Russell, Mayor, City of Joplin, 1710 East 32nd Street, Joplin, MO 64804 | Jan. 10, 2003 | 290183
St. Charles (Case No. 01-07-726P) (FEMA Docket No. P7616) | City of St. Peters | Aug. 21, 2002, Aug. 28, 2002, St. Peters Journal | The Honorable Tom Brown, Mayor, City of St. Peters, 1 St. Peters Center Boulevard, St. Peters, MO 63376 | Nov. 27, 2002 | 290319
New Mexico:
Dona Ana (Case No. 02-06-1099P) (FEMA Docket No. P7616) | Unincorporated areas | Aug. 22, 2002, Aug. 29, 2002, Las Cruces Sun News | Mr. David R. King, Dona Ana, County Manager, County Managers Complex, 180 West Amador Avenue, Las Cruces, NM 88001 | Aug. 8, 2002 | 350012
Dona Ana (Case No. 02-06-1099P) (FEMA Docket No. P7616) | City of Las Cruces | Aug. 22, 2002, Aug. 29, 2002, Las Cruces Sun News | The Honorable Ruben Smith, Mayor, City of Las Cruces, P.O. Box 2000, Las Cruces, NM 88004 | Aug. 8, 2002 | 355332
Ohio:
Franklin and Delaware (Case No. 02-05-1027P) (FEMA Docket No. P7616) | City of Dublin | Aug. 21, 2002, Aug. 28, 2002, Dublin News | The Hon. Thomas McCash, Mayor, City of Dublin, 5200 Emerald Parkway, Dublin, OH 43017-1006 | Nov. 27, 2002 | 390673
Franklin (Case No. 02-05-1027P) (FEMA Docket No. P7616) | Unincorporated areas | Aug. 21, 2002, Aug. 28, 2002, Dublin News | Mr. Dewey R. Stokes, President, Franklin County Board of Commissioners, 373 South High Street, 26th Floor, Columbus, OH 43215 | Nov. 27, 2002 | 390167
Franklin (Case No. 02-05-1849P) (FEMA Docket No. P7616) | Unincorporated areas | Aug. 30, 2002, Sept. 6, 2002, The Columbus Dispatch | Mr. Dewey R. Stokes, President, Franklin County Board of Commissioners, 373 South High Street, 26th Floor, Columbus, OH 43215-6304 | Dec. 6, 2002 | 390167
Greene (Case No. 02-05-2322P) (FEMA Docket No. P7616) | Unincorporated areas | Aug. 23, 2002, Aug. 30, 2002, Xenia Daily Gazette | Mr. Stephen Stapleton, Greene County Administrator, 35 Greene Street, Xenia, OH 45385 | Nov. 29, 2002 | 390193
Lucas (Case No. 02-05-2988P) (FEMA Docket No. P7616) | Village of Holland | Aug. 21, 2002, Aug. 28, 2002, The Blade | The Hon. Michael Yunker, Mayor, Villlage of Holland, 1245 Clarion Avenue, Holland, OH 43528 | July 25, 2002 | 390659
Montgomery (Case No. 02-05-1438P) (FEMA Docket No. P7616) | City of Kettering | Aug. 30, 2002, Sept. 6, 2002, Dayton Daily News | The Honorable Marilou Smith, Mayor, City of Kettering, 3600 Shroyer Road, Kettering, OH 45429 | Aug. 19, 2002 | 390412
Greene (Case No. 02-05-2322P) (FEMA Docket No. P7616) | City of Xenia | Aug. 23, 2002, Aug. 30, 2002, Xenia Daily Gazette | The Honorable John T. Saraga, Mayor, City of Xenia, 101 N. Detroit Street, Xenia, OH 45385 | Nov. 29, 2002 | 390197
Texas:
Bastrop (Case No. 01-06-1169P) (FEMA Docket No. P7616) | Unincorporated areas | Aug. 29, 2002, Sept. 5, 2002, Bastrop Advertiser and County News | The Hon. Ronnie McDonald, Judge, Bastrop County, 804 Pecan Street, Bastrop, TX 78602 | Dec. 5, 2002, | 481193
Bexar (Case No. 02-06-1263P) (FEMA Docket No. P7618) | Unincorporated areas | Sept. 23, 2002, Sept. 30, 2002, San Antonio Express News | The Hon. Cyndi Taylor Krier, Judge, Bexar County, 100 Dolorosa, Suite 101, San Antonio, TX 78205 | Oct. 14, 2002 | 480035
Dallas (Case No. 01-06-1163P) (FEMA Docket No. P7618) | City of Dallas | Sept. 13, 2002, Sept. 20, 2002, Dallas Morning News | The Honorable Laura Miller, Mayor, City of Dallas, 1500 Marilla Street, City Hall, Dallas, TX 75201 | Dec. 20, 2002 | 480171
Dallas (Case No. 01-06-1425P) (FEMA Docket No. P7616) | City of Dallas | Aug. 30, 2002, Sept. 6, 2002, Dallas Morning News | The Honorable Laura Miller, Mayor, City of Dallas, 1500 Marilla Street, City Hall, Dallas, TX 75201 | Dec. 6, 2002 | 480171
Denton (Case No. 02-06-355P) (FEMA Docket No. P7616) | City of Denton | Aug. 23, 2002, Aug. 30, 2002, Denton Record Chronicle | The Honorable Euline Brock, Mayor, City of Denton, 215 East McKinney Street, Denton, TX 76201 | Nov. 29, 2002 | 480194
Denton (Case No. 01-06-1875P) (FEMA Docket No. P7616) | Unincorporated areas | Aug. 23, 2002, Aug. 30, 2002, Denton Record Chronicle | The Honorable Kirk Wilson, Judge, Denton County, Courthouse on the Square, 110 West Hickory Street, Denton, TX 76201 | Nov. 29, 2002 | 480774
Fort Bend (Case No. 02-06-266P) (FEMA Docket No. P7618) | Unincorporated areas | Sept. 4, 2002, Sept. 11, 2002, Fort Bend Star | The Hon. James Adolphus, Judge, Fort Bend County, 301 Jackson Street, Suite 719, Richmond, TX 77469 | Aug. 22, 2002 | 480228
Tarrant (Case No. 02-06-830P) (FEMA Docket No. P7616) | City of Fort Worth | Aug. 23, 2002, Aug. 30, 2002, Fort Worth Star Telegram | The Honorable Kenneth Barr, Mayor, City of Fort Worth, 1000 Throckmorton Street, Fort Worth, TX 76102 | Nov. 29, 2002 | 480596
Tarrant (Case No. 02-06-1073P) (FEMA Docket No. P7618) | City of Fort Worth | Sept. 26, 2002, Oct. 3, 2002, Fort Worth Star Telegram | The Honorable Kenneth Barr, Mayor, City of Fort Worth, 1000 Throckmorton Street, Fort Worth, TX 76102 | Jan. 2, 2003 | 480596
Tarrant (Case No. 02-06-064P) (FEMA Docket No. P7618) | City of Forth Worth | Sept. 13, 2002, Sept. 20, 2002, Fort Worth Star Telegram | The Honorable Kenneth Barr, Mayor, City of Fort Worth, 1000 Throckmorton Street, Fort Worth, TX 76102 | Aug. 30, 2002 | 480596
Tarrant (Case No. 01-06-1571P) (FEMA Docket No. P7616) | City of Grapevine | Aug. 22, 2002, Aug. 29, 2002, Grapevine Sun | The Honorable William Tate Mayor, Grapevine P.O. Box 95104, Grapevine, TX 76099 | July 29, 2002 | 480598
Dallas (Case No. 02-06-1091P) (FEMA Docket No. P7618) | City of Irving | Sept. 5, 2002, Sept. 12, 2002, Irving Morning News | The Honorable Joe Putnam, Mayor, City of Irving, P.O. Box 152288, Irving, TX 75015 | Aug. 19, 2002 | 480180
Dallas (Case No. 02-06-384P) (FEMA Docket No. P7618) | City of Irving | Sept. 12, 2002, Sept. 19, 2002, Irving Morning News | The Honorable Joe Putnam, Mayor, City of Irving, P.O. Box 152288, 825 West Irving Boulevard, Irving, Texas 75015 | Dec. 19, 2002 | 480180
Dallas (Case No. 01-06-1088P) (FEMA Docket No. P7618) | City of Lancaster | Oct. 24, 2002, Oct. 31, 2002, Lancaster Today | The Honorable Joe Tillotson, Mayor, City of Lancaster, P.O. Box 940, Lancaster, TX 75146 | Jan. 27, 2003 | 480182
Denton (Case No. 02-06-731P) (FEMA Docket No. P7618) | City of Lewisville | Sept. 25, 2002, Oct. 2, 2002, Denton County Morning News | The Hon. Bobbie J. Mitchell, Mayor, City of Lewisville, P.O. Box 299002, Lewisville, TX 75029 | Sept. 12, 2002 | 480195
Montgomery (Case No. 01-06-1444P) (FEMA Docket No. P7618) | City of Magnolia | Sept. 11, 2002, Sept. 18, 2002, Magnolia Potpourri | The Hon. Frank Parker, III, Mayor, City of Magnolia, P.O Box 996, Magnolia, TX 77355 | Aug. 30, 2002 | 481261
Dallas (Case No. 01-06-1230P) (FEMA Docket No. P7620) | City of Mesquite | Nov. 7, 2002, Nov. 14, 2002, Mesquite Morning News | The Hon. Mike Anderson, Mayor, City of Mesquite, P.O. Box 850137, Mesquite, TX 75185 | Oct. 9, 2002 | 485490
Midland (Case No. 02-06-1417P) (FEMA Docket No. P7620) | City of Midland | Nov. 12, 2002, Nov. 19, 2002, Midland Reporter Telegram | The Hon. Michael J. Canon, Mayor, City of Midland, 300 North Loraine, P.O. Box 1152, Midland, TX 79702 | Nov. 6, 2002 | 480477
Midland (Case No. 02-06-1417P) (FEMA Docket No. P7620) | Unincorporated areas | Nov. 12, 2002, Nov. 19, 2002, Midland Reporter Telegram | The Hon. William C. Morrow, Judge, Midland County, County Courthouse, 200 West Wall Street, Midland, TX 79701 | Nov. 6, 2002 | 481239
Fort Bend (Case No. 02-06-266P) (FEMA Docket No. P7618) | City of Missouri City | Sept. 5, 2002, Sept. 12, 2002, Fort Bend Mirror | The Honorable Allen Owen, Mayor, City of Missouri City, P.O. Box 666, Missouri City, TX 77459 | Aug. 22, 2002 | 480304
Montgomery (Case No. 01-06-1444P) (FEMA Docket No. P7618) | Unincorporated Areas | Sept. 11, 2002, Sept. 18, 2002, The Courier | The Honorable Alan B. Sadler, Judge, Montgomery County, 301 North Thompson Street, Suite 210, Conroe, TX 77301 | Aug. 30, 2002 | 480483
Tarrant (Case No. 02-06-830P) (FEMA Docket No. P7616) | City of Saginaw | Aug. 23, 2002, Aug. 30, 2002, Fort Worth Star Telegram | The Hon. Frankie Robbins, Mayor, City of Saginaw, 333 West McLeroy Boulevard, P.O. Box 79070, Saginaw, TX 76179 | Nov. 29, 2002 | 480610
Bexar (Case No. 02-06-1263P) (FEMA Docket No. P7618) | City of San Antonio | Sept. 23, 2002, Sept. 30, 2002, San Antonio Express News | The Honorable Ed Garza, Mayor, City of San Antonio, P.O. Box 839966, San Antonio, TX 78283 | Sept. 13, 2002 | 480045
Bexar (Case No. 02-06-2309P) (FEMA Docket No. P7618) | City of San Antonio | Oct. 15, 2002, Oct. 22, 2002, San Antonio Express News | The Honorable Ed Garza, Mayor, City of San Antonio, P.O. Box 839966, San Antonio, TX 78283 | Jan. 21, 2003 | 480045
Bexar (Case No. 02-06-1679P) (FEMA Docket No. P7618) | City of San Antonio | Oct. 23, 2002, Oct. 30, 2002, San Antonio Express News | The Honorable Ed Garza, Mayor, City of San Antonio, P.O. Box 839966, San Antonio, TX 78283 | Jan. 29, 2003 | 480045
Bexar (Case No. 02-06-2309P) (FEMA Docket No. P7618) | City of Shavano Park | Oct. 15, 2002, Oct. 22, 2002, San Antonio Express News | The Hon. Tommy Peyton, Mayor, City of Shavano Park, City Hall, 99 Saddletree Road, San Antonio, TX 78231 | Jan. 21, 2003 | 480047
Tarrant (Case No. 02-06-1098P) (FEMA Docket No. P7618) | City of Southlake | Sept. 12, 2002, Sept. 19, 2002, Fort Worth Star Telegram | The Honorable Rick Stacy, Mayor, City of Southlake, 1400 Main Street, Southlake, TX 76092 | Dec. 19, 2002 | 480612
Fort Bend (Case No. 02-06-266P) (FEMA Docket No. P7618) | City of Sugar Land | Sept. 4, 2002, Sept. 11, 2002, Fort Bend Star | The Honorable David Wallace, Mayor, City of Sugar Land, P.O. Box 110, Sugar Land, TX 77487 | Aug. 22, 2002 | 480234
Tarrant (Case No. 02-06-830P) (FEMA Docket No. P7616) | Unicorporated Areas | Aug. 23, 2002, Aug. 30, 2002, Fort Worth Star Telegram | The Hon. Tom Vandergriff, Judge, Tarrant County, 100 E. Weatherford, Fort Worth, TX 76179 | Nov. 29, 2002 | 480582

(Catalog of Federal Domestic Assistance No. 83.100, “Flood Insurance”)

Dated: May 9, 2003.
Anthony S. Lowe,
Mitigation Division Director, Emergency Preparedness and Response Directorate.

[FR Doc. 03-12579 Filed 5-19-03; 8:45 am]

BILLING CODE 6718-04-P